DEPARTMENT OF TRANSPORTATION

Federal Railroad Administration

Rescinding the Notice of Intent To Prepare an Environmental Impact Statement: Baltimore to Washington Superconducting Magnetic Levitation Project

AGENCY: Federal Railroad Administration, Department of Transportation.

ACTION: Notice of rescission.

SUMMARY: The Federal Railroad Administration (FRA) is announcing that it is rescinding its Notice of Intent (NOI) and will not prepare the Environmental Impact Statement (EIS) for the proposed Baltimore-Washington Superconducting Magnetic Levitation (SCMAGLEV) Project described therein. FRA previously issued a NOI to prepare an EIS in the Federal Register on November 15, 2016.

DATES: This rescission is effective immediately.

FOR FURTHER INFORMATION CONTACT: Please contact Marlys Osterhues, Office of Environmental Program Management, 202-774-8646, or via email at marlys.osterhues@dot.gov.

SUPPLEMENTARY INFORMATION: FRA awarded the Maryland Department of Transportation (MDOT) $27,800,000 through FRA's Magnetic Levitation Deployment grants program (MAGLEV Grants Program), authorized under 23 U.S.C. 322, note, for preliminary engineering and environmental review for the SCMAGLEV Project. The award was made through Cooperative Agreement No. FR-MPS-0002-16. The project would have deployed a new SCMAGLEV system between Washington, DC, and Baltimore, MD, with an intermediary stop at Baltimore/Washington International Thurgood Marshall (BWI) Airport. MDOT partnered with Baltimore Washington Rapid Rail (BWRR) to design the SCMAGLEV system. BWRR would have been responsible for construction and operation of the system. FRA, in cooperation with MDOT, initiated an EIS and published an NOI on November 15, 2016, at 81 FR 85319. FRA published a draft EIS (DEIS) for the project on January 15, 2021. Following the end of the 2021 public comment period on the DEIS, FRA paused the environmental review process on the Federal Permitting Dashboard.¹ The purpose of the pause was to allow MDOT and BWRR additional time to agree on funding to continue the environmental review process and allow FRA and MDOT additional time to review project elements and consider next steps. Since August 24, 2021, the environmental review process has remained paused.

¹ https://www.permits.performance.gov/permitting-project/dot-projects/baltimore-washington-superconducting-maglev-project.

FRA has determined preparation of the final EIS for the SCMAGLEV Project is no longer feasible. FRA has found the current SCMAGLEV Project alternatives are likely to result in unresolvable significant effects to federal agencies, federal property, and critical agency infrastructure and operations during project construction and operation, including to the National Security Agency (NSA), U.S. Department of Defense (DOD) and Fort George G. Meade, National Aeronautics and Space Administration (NASA), U.S Department of Agriculture (USDA), U.S. Secret Service (USSS), U.S. Department of Interior (DOI)—U.S. Fish and Wildlife Service (FWS) and National Park Service (NPS), and the Department of Labor (DOL). Following extensive consultation with these agencies, FRA determined the direct effects would have substantial negative effects to agency operations or to important resources managed by federal agencies. In addition, indirect effects would also significantly impair critical infrastructure and operations and ongoing agency missions.

FRA reviewed project elements to consider whether the DEIS alternatives could be modified to address the agencies' concerns. FRA considered whether modifying the project design of the alternatives, such as locating the SCMAGLEV system entirely underground, would avoid impacts to federal agencies; however, based on agency coordination, FRA found this modification would not address the agencies' collective concerns due to the location of the tunnel and the necessity to locate required ancillary features aboveground (e.g., fresh air/emergency egress [FA/EE]). In addition, BWRR had previously raised technical concerns with a completely underground system, citing cost and constructability, and advised FRA that its 180-acre trainset maintenance facility (TMF) likely could not be located underground.² Similarly, FRA considered whether certain project elements (e.g., TMF, FA/EE facilities) could be relocated to avoid impacts. However, BWRR has noted that the system is designed to meet the Central Japan Railway Company's (JRC's) ³ requirements for SCMAGLEV operations and relocation of project elements like the TMF would be inconsistent with JRC's requirements.⁴

² DEIS at 3-7.

³ JRC is the SCMAGLEV technology owner.

⁴ See MDE, TMF Site Selection Discussion Points for USACE JPA Questions January 25, 2021, available at: https://mde.maryland.gov/programs/water/WetlandsandWaterways/SiteAssets/Lists/SCMAGLEV/NewForm/Exhibit%20P%20%E2%80%93%20TMF%20Supplement.pdf.

In addition, FRA also considered whether the project's Purpose and Need Statement, which was developed consistent with the statutory requirements of the MAGLEV Grants Program and BWRR's technical requirements for system safety and performance, constrained potential modifications to the DEIS alternatives. For example, the Purpose and Need Statement describes the project's objective to achieve optimal speed. Based on BWRR's ridership analysis, a speed up to 310 mph would be necessary to generate revenue to sustain the SCMAGLEV system, accounting for other factors such as power consumption, aerodynamics, and human comfort.⁵ However, achieving this top speed requires a specific geometry for the SCMAGLEV guideway, which constrains the ability to avoid sensitive resources, such as the U.S. Fish and Wildlife-managed Patuxent Wildlife Refuge. In addition, the DEIS Purpose and Need Statement was developed prior to the significant federal investment in the Northeast Corridor (NEC) from the Infrastructure Investment and Jobs Act, which is intended to improve intercity passenger rail service along with NEC. Accordingly, many of the conclusions of the Purpose and Need statement may no longer be valid.

⁵ DEIS at 3-2.

FRA found the alternatives analyzed in the DEIS cannot be modified to avoid, minimize, and mitigate significant effects to federal agencies and federal property. On June 23, 2025, at the request of BWRR, FRA coordinated a meeting with the federal land-owning and permitted agencies, BWRR, MDOT and FRA representatives. During the meeting, BWRR presented the proposed project alignment. In response, the agencies emphasized that their previous comments and significant concerns with the project described in the draft EIS remain, further underscoring that the project is not feasible as proposed. Therefore, FRA will not prepare a final EIS.

FRA received over 6,000 comments on the DEIS and attended three public meetings with testimony from members of the public and other stakeholders. FRA reviewed a high-level summary of the public comments prepared by MDOT. Members of the public were generally supportive of the use of SCMAGLEV technology; the development of a new transportation option; as well as potential growth and economic benefits and job creation from the project. Members of the public also raised concerns with potential effects from project construction and operation, energy consumption, and impacts to communities that would not be directly served by the SCMAGLEV Project. By rescinding the NOI, FRA is not precluding future deployment of SCMAGLEV technology in the United States.

Authority: 42 U.S.C. 4321 et seq.

Robert Andrew Feeley,
Acting Administrator.

[FR Doc. 2025-14732 Filed 8-1-25; 8:45 am]

BILLING CODE 4910-06-P